DEPARTMENT OF THE INTERIOR

Bureau of Land Management

[LLOR-936000-L14300000-ET0000; HAG-10-0114; OR-44954]

Notice of Proposed Withdrawal Extension and Public Meeting; Oregon

AGENCY: Bureau of Land Management, Interior.

ACTION: Notice.

SUMMARY: The United States Forest Service (USFS) has filed an application with the Bureau of Land Management (BLM) that proposes to extend the duration of Public Land Order (PLO) No. 6880, as corrected by PLO No. 6918, for an additional 20-year term. PLO No. 6880 withdrew approximately 11,675.51 acres of National Forest System land from mining in order to protect the scientific and ecological values, and the investment of Federal funds at the Pringle Falls Experimental Forest and Research Natural Area. The withdrawal created by PLO No. 6880 will expire on September 29, 2011, unless extended. This notice also gives an opportunity to comment on the proposed action and to attend a public meeting.

DATES: Comments must be received by August 18, 2010.

ADDRESSES: Comments should be sent to the Oregon/Washington State Director, BLM, P.O. Box 2965, Portland, OR 97208-2965.

FOR FURTHER INFORMATION CONTACT: Susan Daugherty, USFS Pacific Northwest Region, (503) 808-2416, or Charles R. Roy, BLM Oregon/Washington State Office, (503) 808-6189.

SUPPLEMENTARY INFORMATION: The United States Forest Service has filed an application requesting that the Secretary of the Interior extend PLO No. 6880 (56 FR 49416 (1991)), as corrected by PLO No. 6918 (56 FR 66602 (1991)), for an additional 20-year term, subject to valid existing rights. PLO 6880, as corrected by PLO No. 6918, withdrew certain lands in Deschutes County, Oregon, from location and entry under the United States mining laws (30 U.S.C. ch. 2). The area described contains approximately 11,675.51 acres in Deschutes County. PLO No. 6880 is incorporated herein by reference.

The purpose of the proposed withdrawal extension is to continue the protection of the scientific and ecological values, and the investment of Federal funds at the Pringle Falls Experimental Forest and Research Natural Area.

The use of a right-of-way, interagency agreement, or cooperative agreement would not provide adequate protection.

The Forest Service would not need to acquire water rights to fulfill the purpose of the requested withdrawal extension.

Records related to the application may be examined by contacting Charles R. Roy at the above address or phone number.

For a period of 90 days from the date of publication of this notice, all persons who wish to submit comments, suggestions, or objections in connection with the proposed withdrawal extension may present their views in writing to the BLM Oregon/Washington State Director at the address indicated above. Electronic mail, facsimile, or telephone comments will not be considered properly filed.

Comments, including names and street addresses of respondents, will be available for public review at the address indicated above during regular business hours.

Before including your address, phone number, e-mail address, or other personal identifying information in your comment, be advised that your entire comment—including your personal identifying information—may be made publicly available at any time. While you can ask us in your comment to withhold your personal identifying information from public review, we cannot guarantee that we will be able to do so. If you wish to withhold your name or address from public review or from disclosure under the Freedom of Information Act, you must state this prominently at the beginning of your comments. Such requests will be honored to the extent allowed by law. All submissions from organizations or businesses, and from individuals identifying themselves as representatives or officials of organization or businesses, will be made available for public inspection in their entirety.

Notice is hereby given that a public meeting in connection with the proposed withdrawal extension will be held on July 6, 2010 from 5 p.m. to 7 p.m. at the Deschutes National Forest Headquarters located at 1001 SW. Emkay Drive, Bend, OR. A notice of the time and place of this meeting will be published in at least one local newspaper, no less than 30 days before the scheduled date of the meeting. Interested parties may make oral statements at the meeting and may file written statements with the BLM. All statements received will be considered before any recommendation concerning the proposed extension is submitted to the Assistant Secretary for Land and Minerals Management for final action.

The application will be processed in accordance with the regulations set forth in 43 CFR 2300.4.

(Authority: 43 CFR 2310.3-1)

Fred O'Ferrall,
Chief, Branch of Land, Mineral, and Energy Resources.

[FR Doc. 2010-12155 Filed 5-19-10; 8:45 am]

BILLING CODE 3410-11-P